DEPARTMENT OF DEFENSE

Department of the Army

Availability of U.S. Patents for Non-Exclusive, Exclusive, or Partially-Exclusive Licensing

AGENCY: U.S. Army Research Laboratory, Adelphi, Maryland.

ACTION: Notice.

SUMMARY: In accordance with 37 CFR 404.6, announcement is made of the availability of the following U.S. patent for non-exclusive, partially exclusive or exclusive licensing. The listed patent has been assigned to the United States of America as represented by the Secretary of the Army, Washington, DC.

These patents cover a wide variety of technical arts including: An anti-armor projectile with an autonomous, attachable, precursor warhead and a ceramic ferroelectric composite material with enhanced electronic properties.

Under the authority of Section 11(a)(2) of the Federal Technology Transfer Act of 1986 (Public Law 99-502) and Section 207 of Title 35, United States Code, the Department of the Army as represented by the U.S. Army Research Laboratory wish to license the U.S. patent listed below in a non-exclusive, exclusive or partially exclusive manner to any party interested in manufacturing, using, and/or selling devices or processes covered by this patent.

Title: Ceramic Ferroelectric Composite Materials with Enhanced Electronic Properties BSTO-MG Based Compound-Rare Earth Oxide.

Inventors: Luna H. Chiu, Louise C. Sengupta, Steven Stowell, Somnath Sengupta and Jennifer Synowcdzynski.

Patent Number: 6,074,971.

Issued Date: June 13, 2000.

Title: Anti-Armour Projectile with Autonomous, Attachable, Precursor Warhead.

Inventor: Ameer G. Mikhail.

Patent Number: 6,109,185.

Issued Date: August 29, 2000.

FOR FURTHER INFORMATION CONTACT: Michael Rausa, Technology Transfer Office, AMSRL-CS-TT, U.S. Army Research Laboratory, Aberdeen Proving Ground, MD 21005-5055, tel: (410) 278-5028; fax: (410) 278-5820.

SUPPLEMENTARY INFORMATION: None.

Gregory D. Showalter,
Army Federal Register Liaison Officer.

[FR Doc. 00-28389 Filed 11-3-00; 8:45 am]

BILLING CODE 3710-08-M